DEPARTMENT OF COMMERCE

National Oceanic and Atmospheric Administration

RIN 0648-XD634

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, December 10-16, 2014.

DATES: The Council will begin its plenary session at 8 a.m. on Wednesday December 10, continuing through Tuesday December 16, 2014. The Scientific Statistical Committee (SSC) will begin at 8 a.m. on Monday December 8 and continue through Wednesday December 10, 2014. The Council's Advisory Panel (AP) will begin at 8 a.m. on Tuesday December 9, and continue through Saturday December 13, 2014. The Enforcement Committee will meet from 1 p.m. to 4 p.m. on Tuesday December 9, 2014. All meetings are open to the public, except executive sessions.

ADDRESSES: The meetings will be held at the Anchorage Hilton Hotel, 500 West 3rd, Anchorage, AK.

Council Address: North Pacific Fishery Management Council, 605 W. 4th Avenue, Suite 306, Anchorage, AK 99501-2252.

FOR FURTHER INFORMATION CONTACT: David Witherell, Council staff; telephone: (907) 271-2809.

SUPPLEMENTARY INFORMATION:

Council Plenary Session: The agenda for the Council's plenary session will include the following issues. The Council may take appropriate action on any of the issues identified.

1. Executive Director's Report (including review of staff work plan for Gulf of Alaska (GOA)) trawl bycatch management, crab workgroup report on regional delivery framework agreement, legislate update)

NMFS Management Report

ADF&G Report

NOAA Enforcement Report

U.S. Coast Guard Report

U.S. FWS Report

International Pacific Halibut Commission Report

Protected Species Report

North Pacific Research Board report

2. Charter Halibut Management Measures for 2015

3. Initial review of Bering Sea Salmon Bycatch

4. Final action on GOA Skate Maximum Retainable Allowance (MRA)

5. Final BSAI Groundfish harvest specifications; approve Plan Team reports; Amendment 80/American Fisheries Act (AFA) incidental catch data

6. Final GOA groundifish specifications; approve Plan Team reports

7. Initial review of GOA Sablefish longline pots

8. Discussion paper on Vessel Individual Fishing Quotas (IFQs) Caps

9. Electronic Monitoring (EM); workgroup report; discuss Alternative 4 and review Cooperative Research Plan (CRP)

10. Discussion paper on Observer coverage on small Catcher Processors (CPs)

11. Review Vessel Monitoring System (VMS) discussion paper

12. Initial/Final action on Fishery Management Plan (FMP) language License Limitation Program (LLP) exemptions housekeeping

13. Pribilof canyon corals; receive comments on rage of alternatives

14. Staff Tasking

The Advisory Panel will address most of the same agenda issues as the Council except B reports. The SSC agenda will include the following issues:

1. Bering Sea Salmon Bycatch

2. BSAI Groundfish Specifications

3. GOA Groundfish Specifications

4. GOA Sablefish pots

In addition to providing ongoing scientific advice for fishery management decisions, the SSC functions as the Councils primary peer review panel for scientific information as described by the Magnuson-Stevens Act section 302(g)(1)(e), and the National Standard 2 guidelines (78 FR 43066). The peer review process is also deemed to satisfy the requirements of the Information Quality Act, including the OMB Peer Review Bulletin guidelines.

The Agenda is subject to change, and the latest version will be posted at http://www.npfmc.org. Background documents, reports, and analyses for review are posted on the Council Web site in advance of the meeting. The names and organizational affiliations of SSC members are also posted on the Web site.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: November 17, 2014.
Tracey L. Thompson,
Acting Deputy Director, Office of Sustainable Fisheries, National Marine Fisheries Service.

[FR Doc. 2014-27540 Filed 11-20-14; 8:45 am]

BILLING CODE 3510-22-P